DEPARTMENT OF EDUCATION

Office of Elementary and Secondary Education; Overview Information; Comprehensive Centers; Notice Inviting Applications for New Awards for Fiscal Year 2005

Catalog of Federal Domestic Assistance (CFDA) Number: 84.283B.

DATES: Applications Available: June 3, 2005.

Deadline for Notice of Intent to Apply: June 23, 2005.

Dates of Pre-Application Meetings: The Department will conduct briefings on this competition via conference call to clarify the purposes of the program and the selection criteria and process at 11 a.m. on each of the following dates: Applicants for Regional Centers June 13 and 17; Applicants for Content Centers June 22 and 23. Please e-mail Enid Simmons at enid.simmons@ed.gov to register for a call date and time and obtain the conference call number and code.

Deadline for Transmittal of Applications: July 18, 2005.

Deadline for Intergovernmental Review: August 17, 2005.

Eligible Applicants: Research organizations, institutions, agencies, institutions of higher education, or partnerships among such entities, or individuals, with the demonstrated ability or capacity to carry out the activities described in this notice. An application from a consortium of eligible entities must include a consortium agreement. Letters of support do not meet the requirement for a consortium agreement.

Note: The Department will reject any application that does not meet these eligibility requirements.

Estimated Number of Awards: The Secretary intends to support 21 awards under this competition. Sixteen awards will support Regional comprehensive centers (Regional Centers) to serve States within defined geographic boundaries. The States and territories to be served by each Regional Center are described in this notice under Absolute Priorities for Regional Centers. Five awards will support Content comprehensive centers (Content Centers), each having a specific content expertise and focus, to support the work of the Regional Centers. These five Content Centers are: the Center on Assessment and Accountability, the Center on Instruction, the Center on Teacher Quality, the Center on Innovation and Improvement, and the Center on High Schools. The functions and activities for each of the five Content Centers are described in this notice under Absolute Priorities for Content Centers.

Note: The Educational Technical Assistance Act of 2002 (TA Act) provides that the Secretary must ensure that not less than one Comprehensive Center is established in each of the 10 geographic regions served by the Regional Educational Laboratories. Note that these regions differ, in some instances, from the Regional Centers described in this notice. The Secretary will consider the location of the proposed Regional Centers in the selection and negotiation of cooperative agreements to ensure that this requirement of the law is met.

Estimated Available Funds: Eighteen of the 21 Centers proposed for funding under this competition will be supported entirely with funds from the Comprehensive Centers program, authorized under Title II of the TA Act. Three of the 21 centers will be supported with funds appropriated for the Comprehensive Centers program and the Special Education Technical Assistance and Dissemination program, which is authorized under the Individuals with Disabilities Education Act, as amended (IDEA).

The estimated available funds from the Comprehensive Centers program for FY 2005 is $40 million. Of that amount, an estimated $35 million will be used to fund Regional Centers and $5 million will be used to fund the Content Centers. FY 2005 funds will support awards for the first budget period of the project, which is the first nine months of the project period. Funding for the subsequent 12-month budget periods for years two through five (FY 2006 through FY 2009) is contingent on appropriation levels. For FY 2006, the President's budget, if funded at the requested level, would provide approximately $56.8 million for the Comprehensive Centers program.

The estimated total funds from the Special Education Technical Assistance and Dissemination program for FY 2005 is $3 million to provide partial support for three of the Content Centers for the first budget period of the project.

Depending on appropriation levels, a total of up to $3 million from the Special Education Technical Assistance and Dissemination program will be available for awards to the co-funded Content Centers in subsequent budget periods. The Department anticipates that each program will provide approximately 50 percent of the annual funding for the three co-funded Content Centers during the first budget period of the project. The co-funded Content Centers will be the Center on Instruction, the Center on Teacher Quality and the Center on High Schools.

Estimated Range of Awards: The estimated range of awards for Regional Centers is $750,000 to $4,604,348 from FY 2005 funds for the first budget period, covering the first 9 months of the project period. Funding for each Regional Center was calculated by formula, based equally on shares of population and poor children, ages 5-17 in the States (including DC, Puerto Rico, and the Outlying Areas) served by each Regional Center. Department estimates for awards to each Regional Center are provided at: http://www.ed.gov/programs/newccp/index.html.

The estimated range of awards for Content Centers is $1,000,000 to $2,000,000 for the first budget period, which includes the first nine months of the project period.

Estimated Average Size of Awards: Regional Centers—$2,187,500 in the first budget period (FY 2005) and approximately $2,895,313 in each subsequent budget period; the three co-funded Content Centers—$2,000,000 in the first budget period (FY 2005) and approximately $2,500,000 in each subsequent budget period; the other two Content Centers—$1,000,000 in the first budget period (FY 2005) and approximately $1,500,000 in each subsequent budget period.

Note: The Department is not bound by any estimates in this notice.

Project Period: Up to 60 months.

Budget Period: Nine months for the first budget period only. Each subsequent budget period will be 12 months.

Full Text of Announcement

I. Funding Opportunity Description

Purpose of Program: The Comprehensive Centers program supports the establishment of not fewer than 20 comprehensive technical assistance centers that provide technical assistance to States as States work to help districts and schools to close achievement gaps in core content areas and raise student achievement in schools, especially those in need of improvement (as defined by Section 1116(b), of the Elementary and Secondary Act, as amended (ESEA)) in implementing the school improvement provisions under section 1116 of ESEA.

Centers established under this program will replace the existing Comprehensive Regional Assistance Centers, the Regional Technology in Education Consortia, the Eisenhower National Clearinghouse for Mathematics and Science Education, and the Regional Mathematics and Science Education Consortia.

Background: The ESEA, as amended by the No Child Left Behind Act of 2001 (NCLB), holds States accountable for closing achievement gaps and ensuring that all children, regardless of ethnicity, income, language or disability, receive a high quality education and meet State academic standards by 2013-2014.

To that end, NCLB requires States to set standards for student performance, implement statewide testing and accountability systems to measure school and student performance toward achieving those standards, adopt research-based instructional and program improvements related to teaching and learning in the classroom, ensure that all teachers in core subject areas are highly qualified, and improve or ultimately restructure schools that are consistently low-performing.

The comprehensive centers funded under this competition will begin providing technical assistance at a time when States, districts, and schools have accomplished much of the initial implementation of NCLB.

The new centers funded under this competition will provide intensive technical assistance in several areas that are key to success in meeting NCLB goals. Recent assessments conducted to help determine technical assistance priorities for the Comprehensive Centers program indicate that States need assistance, for example, to implement school improvement efforts to help meet school and district adequate yearly progress requirements; to identify and adopt instructional and assessment methods that have been proven effective through scientifically based research, especially for students with special needs; to design programs and strategies and allocate resources to recruit, retain, and train talented teachers and school leaders; and to enhance assessment and accountability systems.

Because States have the primary responsibility for school improvement efforts, these centers will focus their technical assistance on States and on helping States increase their capacity to provide sustained support to districts and schools as they implement NCLB reforms.

The new centers will serve as field agents for the Department to further States' understanding of the provisions and purposes of NCLB and related Federal programs and help them adopt proven approaches to achieve the school improvement and student performance goals required under NCLB. The centers will work closely with, and leverage the resources of, other technical assistance providers and research organizations, including the Regional Educational Laboratories, the Special Education Technical Assistance Network, the Parental Information and Resource Centers, the Equity Assistance Centers, the Reading First National Technical Assistance Center, the Institute of Education Sciences' research centers and its What Works Clearinghouse, and other Federal, regional, and State entities and postsecondary institutions, to gather and disseminate information and knowledge about what works and to help States translate that knowledge into meaningful practice.

The approach to technical assistance delivery for the centers is two-tiered: The Regional Centers will have the primary relationships with, and provide services to, the States in their regions; in serving their State clients, the Regional Centers will draw heavily on the research-based information, products, guidance, and knowledge on key NCLB topics supplied by the Content Centers.

The Department intends to have substantial and sustained involvement in the activities of each center funded under this competition, including shaping grantee priorities, activities, and major products to meet the purposes of this program. The Department also intends to partner with the centers, particularly the Content Centers, to convene national conferences to disseminate information and resources about Departmental priorities related to NCLB. The details and parameters of the Department's expectations and involvement with each center funded under this competition will be included in the Department's cooperative agreement with the grantee that receives an award for that center under this competition.

Regional Advisory Committees: To help inform the Secretary's priorities for the centers funded under this competition, the Secretary (in accordance with section 206 of the TA Act) established 10 Regional Advisory Committees (RACs) charged with conducting education needs assessments within the geographical regions served by the current regional educational laboratories.

The RACs conducted their needs assessments during the period from December 2004 to March 2005 and submitted their reports to the Secretary on March 31, 2005. The full reports are available at: http://www.ed.gov/programs/newccp/index.html.

Applicants for the centers are encouraged to consider the specific priorities and recommendations contained in the RAC reports when preparing their applications.

Priorities: This competition contains three sets of absolute priorities (Absolute Priorities for All Centers (priorities one and two), Absolute Priorities for Regional Centers (priorities three through six), and Absolute Priorities for Content Centers (priorities seven through eleven)). We are establishing these absolute priorities for the FY 2005 grant competition only, in accordance with section 437 (d)(1) of the General Education Provisions Act.

Absolute Priorities: For FY 2005 these priorities are absolute priorities.

For Regional Center awards, under 34 CFR 75.105 (c)(3) we consider only applications that meet the Absolute Priorities for All Centers (priorities one and two) and Absolute Priorities for Regional Centers (priorities three through six).

For Content Center awards, under 34 CFR 75.105 (c)(3) we consider only applications that meet the Absolute Priorities for All Centers (priorities one and two) and one of the priorities under Absolute Priorities for Content Centers (i.e., priorities 7, 8, 9, 10, or 11).

Note: If an applicant wants to apply for funding for more than one center, it must submit separate applications for each proposed center.

Absolute Priorities for All Centers

Priority 1—Focus on States. To meet this priority, applicants must propose a plan of technical assistance specifically focused on helping States implement the provisions of NCLB applicable to States, and helping States build the capacity to help school districts and schools implement NCLB provisions and programs.

To the extent an applicant proposes to work with individual school districts and schools, the applicant must propose a technical assistance plan that only proposes work with districts and schools where the effort—(a) Involves a high leverage strategy (i.e., reaches a large number or proportion of schools, teachers, and administrators needing the assistance within the State); (b) responds to a need identified by the State; and (c) is planned and coordinated with the State.

Note: This priority does not support research, program evaluation, or curriculum development. Thus, an applicant will not satisfy this priority if it proposes a technical assistance plan to—

(a) Design or develop curricula or instructional materials for use in classrooms or develop professional development programs where proven models already exist; or

(b) conduct basic research or program evaluations on behalf of States or districts.

Priority 2—Crosscutting Expertise. To meet this priority, an applicant must demonstrate that proposed center staff has expertise on several issues of crosscutting importance related to the delivery of technical assistance in specific regions and content areas. These issues are:

(a) Proven strategies for addressing the needs of schools with populations at risk of failure, especially children who have limited proficiency in English, children with disabilities, and children from economically disadvantaged families.

(b) Effective uses of technology to improve instruction, and as an efficient means of delivering technical assistance.

(c) Implementing school improvement reforms within urban and rural contexts.

Absolute Priorities for Regional Centers

Background: Regional Centers must provide frontline assistance to States to help them implement NCLB and other related Federal school improvement programs and help increase State capacity to assist districts and schools meet their student achievement goals. Regional Centers must be embedded in regions and responsible for developing strong relationships and partnerships within their regional community. While Content Centers must focus almost entirely on specific content areas, analyzing research, developing useful products and tools for Regional Centers and other clients, the Regional Centers will be the “on the ground” providers to States.

Drawing from the information and resources provided by the Content Centers funded through this competition and other sources, the Regional Centers must provide a program of technical assistance to States that will enable them to among other things—

(a) Assess the improvement needs of districts and schools and assist them in developing solutions to address those needs;

(b) build and sustain systemic support for district and school improvement efforts to (i) close existing achievement gaps; and (ii) adopt proven practices to improve instruction and achievement outcomes for students in schools identified as in need of improvement; and

(b) improve the tools and systems for school improvement and accountability for the achievement outcomes.

Text of Priorities

Priority 3—Location of Regional Centers. The Secretary will award grants to establish 16 Regional Centers serving States and territories. In order to meet the requirement of this priority, a proposed Regional Center must serve one of the following regions:

Regional comprehensive center | Region
New England | Connecticut, Maine, Massachusetts, New Hampshire, Rhode Island, and Vermont.
New York | New York.
Mid-Atlantic | Delaware, Maryland, New Jersey, Pennsylvania, and Washington, DC.
Appalachia | Kentucky, Tennessee, North Carolina, Virginia, and West Virginia.
Southeast | Alabama, Georgia, Mississippi, Louisiana, and South Carolina.
Florida and Islands | Florida, Puerto Rico, and the Virgin Islands.
Great Lakes West | Wisconsin and Illinois.
Great Lakes East | Michigan, Indiana, and Ohio.
North Central | North Dakota, South Dakota, Minnesota, Nebraska, and Iowa.
Mid-Continent | Kansas, Oklahoma, Arkansas, and Missouri.
Texas | Texas.
West/Southwest | Nevada, Utah, Colorado, Arizona, and New Mexico.
California | California.
Northwest | Idaho, Montana, Oregon, Washington, and Wyoming.
Alaska | Alaska.
Pacific | American Samoa, Commonwealth of the Northern Mariana Islands, Federated States of Micronesia (Chuuk, Kosrae, Pohnpei, and Yap), Guam, Hawaii, Republic of the Marshall Islands, and the Republic of Palau.

Priority 4—Regional Technical Assistance Activities. To meet this priority, the work of the proposed Regional Centers must involve activities that address State technical assistance needs by—

(a) Working closely with each State in its region on an ongoing basis;

(b) linking States with the resources of Content Centers, Department staff, Regional Educational Laboratories, The What Works Clearinghouse, and other entities that have, or may be able to, design products and services tailored to State needs;

(c) suggesting sources of appropriate service providers or assistance for State activities that are not within the core mission of the centers—including, for example, activities to address needs related to curriculum development, designing school-level training programs, or conducting basic research or impact evaluations;

(d) assisting State efforts to build statewide systems of support for districts and schools in need of improvement, partly by leveraging the resources of Content Centers and other sources of scientifically-based education research and high-quality technical assistance on behalf of State and district clients;

(e) working to identify, broker, leverage, and deliver information, resources and services from the Content Centers and other sources that focus on research-based knowledge of promising practices, including assistance to States and districts on securing high-quality consultants and experts to meet specific education needs;

(f) convening, in partnership with Content Centers and others, as appropriate, States and districts to receive training and information on best practices and research-based improvement strategies;

(g) providing guidance and training on implementation of requirements under NCLB and other related Federal programs;

(h) facilitating collaboration at the State level to align Federal, State, district and school improvement programs and help States understand and use the flexibility provided by NCLB to target resources and programs to address the greatest needs; and

(i) helping Content Centers to identify, document and disseminate emerging promising practices by working with States to distill and document the experiences of high-performing districts and schools.

Priority 5—Knowledge and Expertise. To satisfy this priority, the proposed Regional Center must demonstrate in-depth knowledge of regional and local issues, conditions, and needs, particularly as those relate to the roles and responsibilities of States, districts, and schools in implementing the provisions of NCLB and other related Federal programs. In addition, the proposed Regional Center must have expertise in comprehensive planning, needs assessment, and State, district, and school improvement processes.

Priority 6—Coordination and Cooperation. To meet this priority, the proposed Regional Center must create and maintain cooperative working relationships with States in their region and other technical assistance providers serving the region, including the Regional Educational Laboratories, the Special Education Technical Assistance Network, Parental Information and Resource Centers, Equity Assistance Centers, the Reading First National Technical Assistance Center, and other regional and State entities, including for example, regional service providers and post-secondary institutions.

Absolute Priorities for Content Centers: There are five priorities under these Absolute Priorities for Content Centers. Each priority corresponds to one of the Content Centers the Department intends to fund through this competition (i.e., Priority 7—Center on Assessment and Accountability, Priority 8—Center on Instruction, Priority 9—Center on Teacher Quality, Priority 10—Center on Innovation and Improvement, and Priority 11—Center on High Schools). To be eligible to receive funding for a Content Center under this competition, an applicant must meet the requirements of only one of the priorities in this section.

Together, the five Content Centers cover a spectrum of inter-related school improvement and technical assistance areas. The Content Centers will work closely with Regional Centers to provide technical assistance to States.

While Regional Centers will have the primary relationships to States in their regions, Content Centers will supply much of the common research-based information, products, guidance, analyses, and knowledge on certain key NCLB topics that Regional Centers will use when working with States.

The purpose of having national level Content Centers is to avoid duplication of efforts across centers in key NCLB areas and to ensure depth of content knowledge in these areas.

Because the Content Center focus areas cut across the school improvement process, Content Centers will also connect and collaborate with each other as a network and a central source of knowledge, resources and tools that stakeholders can readily access to find information and resources to address their needs in one or more of the content areas covered by the five Content Centers.

Content Centers will have in-depth knowledge of the content and research related to the center's focus area; expertise in evaluating existing resources and synthesizing information into a meaningful and useful knowledge base; the ability to translate and communicate that knowledge; and the ability to collaborate with other providers and research institutions, broker resources and connect technical assistance resources at a national level to identify and share the best practices of States and districts.

Content Centers will facilitate access to, and use of, existing research and proven practice by analyzing, synthesizing, and disseminating information on proven, promising and emerging practices and strategies in the Center's focus area, as well as develop tools for Regional Centers to use in providing assistance to States.

In general, the Content Centers will, among other things—

(a) Identify, organize, select and translate existing key research knowledge pertaining to the Center's content-focus area and communicate the information in ways that are highly relevant and highly useful to State and local level policy makers and practitioners;

(b) Benchmark State and district practices for implementing NCLB provisions and school improvement interventions related to the center's area of focus and identify promising approaches that can be shared with States and districts;

(c) Convene States and districts, researchers and other experts to learn from each other about practical strategies for implementing NCLB provisions and programs related to the Center's area of focus;

(d) Train Regional Center staff on what is known about scientifically valid practices and programs;

(e) Collaborate with Regional Centers to address specific requests for assistance from States within the regions;

(f) Communicate to the field, including through national conferences, Department guidance related to the center's content focus and examples of workable strategies and systems for implementing provisions and programs that have produced positive outcomes for schools and students; and

(g) Design needs assessment and data analysis tools that States and districts can use to benchmark their own programs and progress.

Priority 7—Center on Assessment and Accountability. Background: The Assessment and Accountability Center will focus on State and school district implementation of NCLB assessment and accountability requirements, including support for administration of accountability plans, and the design and administration of effective models, strategies and tools for the following:

(a) Implementing valid, standards-based testing and large scale assessment programs, especially for students with limited English proficiency and special education students, and using classroom data designed to diagnose needs, guide instruction, and regularly monitor progress.

(b) Implementing data systems that support student assessment, program accountability, reporting requirements, and school improvement efforts.

(b) Training data users, including State and district and policy makers, program and school officials, administrators and classroom teachers to use data effectively in making instructional and school improvement decisions.

Text of Priority: To meet this priority, an applicant must demonstrate—

(a) In-depth understanding of and the ability to apply that understanding to testing, assessment and data systems issues confronting States and districts as they design and manage statewide accountability systems; and

(b) In-depth knowledge and understanding of—

• The range of assessment models, methods and tests available and their applicability for various testing purposes for diverse learners, including, for example, English language learners and students with disabilities;

• Test development, test reliability and validity issues for different types of tests, and for measuring the academic progress of diverse learners;

• Curriculum to test alignment issues and strategies;

• Methods, systems, and rubrics for scoring tests and reporting the results; and

• How to interpret and use test results to inform decisions about student progress and education practice.

To meet the priority for the Assessment and Accountability Center, an applicant also must demonstrate expertise in designing or helping States and districts design data systems, establishing system standards, policies and procedures, and implementing an integrated assessment and accountability system that can yield real-time data to inform on-going decisions about student and school performance and program improvement. The center must work closely with other technical assistance providers, including the National Center on Education Outcomes and National Collaborative Center on Standards and Assessment Development.

Priority 8—Center on Instruction. Background: The Center on Instruction will focus on helping States and districts evaluate and select evidence-based interventions and practices to improve instruction for students in the content areas of reading/literacy, language arts, mathematics, and science, and English language acquisition. The Center on Instruction will disseminate existing research and information on proven instructional practices that work to help schools and districts identified as in need of improvement to improve the academic achievement of students from diverse backgrounds, including economically disadvantaged students, students who are receiving special education, students who have limited proficiency in English, migrant students, and other students and groups of students who are at risk of academic failure.

Instructional practices must include interventions designed to provide intensive support for students with disabilities, including students with disabilities who need modified achievement standards as described in “Raising Achievement: A New Path for No Child Left Behind”, which can be found at http://www.ed.gov/news/pressreleases/2005/04/04072005.html.

Text of Priority: To receive funding under this priority, the proposed center must—

(a) Disseminate guidance for policy makers and practitioners on how to understand and interpret scientifically based research to evaluate instructional strategies and programs and their application and effectiveness in instructional practice;

(b) On issues related to early reading/language arts instruction, work closely with the Reading First National Technical Assistance Center and act as a provider of knowledge and research, consistent with that delivered to Reading First grantees;

(c) Help identify and track proven, as well as promising and emerging, practices around adolescent literacy; and

(d) Focus on analyzing and disseminating information on practices based on scientifically valid research and other promising practices in math and science instruction.

Staff of the proposed center must have extensive content knowledge and understanding of emerging and promising practices that can be shared with States and districts. Specifically, to meet this priority, an applicant must demonstrate—

(a) In-depth knowledge of instructional practices and strategies that work to improve schools and the academic achievement of students from diverse backgrounds, including economically disadvantaged students, students who are receiving special education, students who are limited English proficient, migrant students, and other students and groups of students who are at risk of academic failure;

(b) In-depth knowledge of evidence-based instructional interventions and features that improve achievement, particularly in reading and math, of students with disabilities, including students with disabilities who need modified achievement standards (Features that are extremely important for implementing, evaluating, and sustaining effective instruction for students with disabilities include intensity, duration, development of individual education plans, student grouping, the use of data to measure progress and inform instruction, and fidelity.);

(c) In-depth knowledge of instructional practices that work to help districts and schools identified as in need of improvement to improve the academic achievement of students from diverse backgrounds; and

(d) The ability to translate and communicate that knowledge in ways that are meaningful and useful to the Content Center's Regional Center clients and to education policy makers and practitioners.

Finally, because a proportion of the funding for the Center on Instruction comes from the Special Education Technical Assistance and Dissemination program, to meet this priority, an applicant's plan of activities must provide for a level of technical assistance benefiting students with disabilities that is consistent with that proportion of funding. Thus, for the first budget period (FY 2005), grantees must target 50 percent of services to support technical assistance needs related to identifying evidence-based interventions and practices that work to improve instruction and academic achievement in the content areas of reading/literacy, language arts, mathematics, and science for students with disabilities. For subsequent years, applicants must propose technical assistance benefiting students with disabilities that is equivalent to $1 million per year.

Priority 9—Center on Teacher Quality. Background: This center will focus on helping Regional Centers and States to identify proven and promising practices and strategies to meet a range of teacher quality goals under NCLB, including: (a) Recruitment, retention and selection of highly qualified teachers who have the greatest chance to succeed, particularly in districts and schools identified as in need of improvement; (b) support, induction, pay for performance/differentiated compensation systems, and mentoring strategies and programs that may increase the likelihood that highly qualified teachers will stay in teaching, especially in high-need districts and schools and in rural and urban settings; (c) expanding alternative routes to teacher certification and transition into teaching (including programs for mid-career professionals, paraprofessionals, and recent college graduates) that have demonstrated a level of quality and intensity of training necessary to produce teachers with the knowledge and skills needed to be effective in meeting the needs of students at high risk of academic failure, including students who with disabilities, students who are limited English proficient and migrant students; (d) development and administration of high-quality, intensive and sustained in-service professional development programs to ensure that all teachers improve and expand their content knowledge, teaching skills and success and that school leaders have the knowledge and skill to support classroom teachers and instructional and school improvements; and (e) professional development programs and strategies to ensure that all teachers are prepared to identify and address the diverse needs of students in a classroom, particularly those students at risk of academic failure.

The Center on Teacher Quality will draw on existing knowledge and resources, including research supported by the Department's Institute of Education Sciences and teacher quality grant programs such as Transition to Teaching, Troops to Teachers, Teaching American History, and School Leadership programs.

Text of Priority: To meet this priority, an applicant must demonstrate—

(a) In-depth knowledge of (i) what makes a highly qualified teacher, with a particular focus on the teaching practices and approaches that are linked to improvements in achievement for students at risk of failure; (ii) the challenges, including systemic barriers, States face in their efforts to recruit, select, train and retain highly qualified teachers, particularly to teach in high-need and low-performing districts and schools and in urban and rural settings; and (iii) the available research-based strategies, practices and tools available to address those challenges;

(b) expertise in identifying effective alternative routes into teaching and demonstrated knowledge of the various teacher credentialing and certification practices currently being employed by States; and

(c) an understanding of the importance of principal leadership to hiring and retaining high-quality teachers.

Finally, because a proportion of the funding for this Center comes from the Special Education Technical Assistance and Dissemination program, to meet this priority, an applicant's plan of activities must provide for a level of technical assistance benefiting students with disabilities that is consistent with that proportion of funding. Thus, for the first budget period (FY 2005), grantees must target 50 percent of services to support technical assistance needs related to identifying and disseminating research-based knowledge and models of best practice to recruit, select, train and retain teachers with the knowledge and skills needed to be effective in meeting the needs of students who are receiving special education services. For subsequent years, applicants must propose technical assistance benefiting students with disabilities that is equivalent to $1 million per year.

Priority 10—Center on Innovation and Improvement. Background: This center will focus on effective systems and strategies to support States and districts as they (1) plan and administer school improvement programs, and (2) implement the key choice provisions of NCLB, including public school choice, supplemental educational services, charter schools, and equitable services for private school students. This center will inform and support Regional Centers as they work to raise the capacity of States to provide sustained technical assistance to, and help build infrastructure supports in, districts and schools.

To support States' and districts' plans and implementation of school improvement programs, the Center on Innovation and Improvement will work with Regional Centers and with the other Content Centers funded under this competition to identify school improvement processes, policies and practices for analyzing problems, building infrastructures at the district and school levels, involving teachers and parents in decision-making, and using Federal (especially Title I of ESEA), State and local resources more effectively to support improved teaching and learning for all students, including limited English proficient, migrant, and disabled students.

The center will also identify, analyze, and disseminate new and emerging approaches to governance, resource management, decision processes, personnel systems, and program coordination and alignment at the district and school levels that will help make schools and districts in need of improvement high performing.

To address the key choice provisions of NCLB, the center will assist States and districts with informing and empowering the neediest parents about the public school choice provisions, and with building capacity for public school choice, including through the development of high-quality charter schools. The center will also assist States and districts with implementing supplemental educational services by supporting their efforts to increase students' access to these services, to improve the quality of service providers, and to increase the variety of provider options available to parents.

The center will also assist in expanding the number of high-quality charter schools available to students by focusing assistance on States, charter authorizers (including local school boards), and charter developers for the planning, implementation, and oversight of effective charter schools. The center will also assist States and districts in improving their implementation of the provisions in NCLB regarding the equitable participation of private school students and teachers.

Text of Priority: In order to satisfy this priority, applicants must demonstrate in-depth knowledge of systemic reform and school improvement strategies that work to help schools in need of improvement close the achievement gap, as well as in-depth knowledge of the key choice provisions of NCLB. Applicants must also demonstrate the ability to translate and communicate that knowledge in ways that are meaningful and useful to their Regional Center clients and to education policy makers and practitioners.

Priority 11—Center on High Schools. Background: The Center on High Schools will focus on the comprehensive reform of high schools to ensure that every student receives the knowledge, skills and support they need to graduate from high school prepared to succeed in postsecondary education and the workforce. The center will place particular emphasis on identifying new and emerging strategies that will benefit high schools consistently in need of improvement and students who are at risk of academic failure.

Text of Priority: To satisfy this priority for a Center on High Schools, the proposed center must—

(a) Identify new and emerging approaches, including those involving district and State systemic reforms to improve and enhance the academic performance of students in high schools;

(b) identify, analyze and disseminate knowledge on strategies for: (i) Instituting higher academic standards, more rigorous coursework requirements, and assessment programs that align with the performance requirements of college and work; (ii) ensuring that teachers and school leaders are prepared to teach and lead to academic excellence; (iii) instituting policies and programs to reduce the incidence of dropouts and increase graduation rates; (iv) increasing access to and improving the quality of education in the general education curriculum for students with disabilities in high schools; (v) involving parents in decisions about their child's high school educational program and planning for the child's post-high school future; (vi) adopting new approaches to governance, resource management, decision processes, personnel systems, and program coordination and alignment that may better facilitate and support high-quality high school programs; (vii) facilitating better coordination between K-12 programs and postsecondary institution requirements within States; and (viii) helping States rethink how they might better use Federal, State and local programs and resources for high schools.

To meet this priority, an applicant must also demonstrate in-depth understanding of: (a) The issues and challenges confronting high schools and the current high school reform context; (b) current research and practice regarding high school reform; (c) current research and practice regarding increasing access to and improving the quality of education in the general education curriculum for students with disabilities in high schools; and (d) the State and district systemic issues that need to be addressed to facilitate improvement in student achievement in high schools.

Finally, because a proportion of the funding for the center comes from the Special Education Technical Assistance and Dissemination program, to meet this priority, an applicant's plan of activities must provide for a level of technical assistance benefiting students with disabilities that is consistent with that proportion of funding. Thus, for the first budget period (FY 2005), grantees must target 50 percent of services to support technical assistance needs related to identifying and disseminating new approaches for increasing access to and improving the quality of education in the general education high school curriculum for students receiving special education services. For subsequent years, applicants must propose technical assistance benefiting students with disabilities that is equivalent to $1 million per year. The Center on High Schools will also be expected to collaborate with the Department's National Dropout Prevention Center for Students with Disabilities.

Additional Requirements

1. Plan of Technical Assistance. All applicants under this competition must submit as part of their application a 5-year plan of technical assistance that describes the strategies and approaches the applicant will use to carry out the activities of the proposed center in a manner that addresses the statutory requirements of sections 203 through 207 of the TA Act, and the priorities and additional requirements described in this notice.

2. Focus on Districts and Schools that are High-Need and Identified as in Need of Improvement. Applicants must demonstrate how the proposed plan of technical assistance will give priority to helping States, districts and schools build the capacity to develop and implement programs targeted specifically to meet the educational needs of students in school districts and schools with high percentages or numbers of school-age children from low income families, including such school districts and schools in rural and urban areas; and schools in the region that have been identified for school improvement under section 1116(b) of the ESEA.

3. Focus on State/Regional Priorities. Applicants must tailor the strategies and activities they propose to address the educational priorities and related technical assistance needs of States. For Regional Centers, the proposed plan of technical assistance must reflect a thorough understanding of the technical assistance needs and propose strategies that specifically address those needs for the particular States the Regional Center will serve, considering: (a) The educational goals and priorities of States to be served, including major reform efforts underway; (b) the current status of States in meeting the requirements and goals of NCLB; (c) the types of technical assistance and related strategies that would help States, districts and schools implement the programs and goals of NCLB and close existing achievement gaps in the content areas; and (d) State and regional student demographics and other contextual factors, such as urban and rural locality. In the case of Content Centers, the proposed plan of technical assistance should address the needs of States and regions nationally.

4. Allocation of Resources. Proposed technical assistance plans must allocate resources to and within States and regions (or, for Content Centers, across States and regions) in a manner that reflects the need for assistance, taking into account such factors as the proportion of economically disadvantaged students, the increased cost burden of service delivery in areas of sparse populations, and any special initiatives being undertaken by State, intermediate, local educational agencies, or schools funded under the jurisdiction of the Bureau of Indian Affairs, which may require special assistance from the center.

5. Coordination and Collaboration. Each applicant must describe in its technical assistance plan how the proposed center will: (a) Communicate regularly with the U.S. Department of Education, other comprehensive centers, the Regional Educational Laboratories, State educational agencies, and other technical assistance providers as appropriate; and (b) how the proposed center will plan and coordinate activities funded under this competition with the activities of those other entities to leverage available knowledge and resources and avoid duplicating efforts.

6. Advisory Board. Each application must propose, as part of its technical assistance plan, establishing an advisory board to advise the proposed comprehensive center on: (a) The activities of the center relating to its allocation of resources to and within each State in a manner that reflects the need for assistance in accordance with section 203(d) of Title II of the TA Act; (b) strategies for monitoring and addressing the educational needs of the region, on an ongoing basis; (c) maintaining a high standard of quality in the performance of the center's activities; and (d) carrying out the center's duties in a manner that promotes progress toward improving student academic achievement.

The plan must detail the composition of the board by name and affiliation in accordance with the requirements described in section 205 of the TA Act and in the application instructions found in the application package. A letter of commitment from each proposed board member must accompany the plan.

7. Evaluation Plan. Each applicant must provide, as part of its technical assistance plan, a plan to assess: (a) The needs of all States served by the comprehensive center on an ongoing basis, and (b) the progress and performance of the center in meeting the educational needs of their clients. The plan must identify performance objectives the project intends to achieve and performance measures for each performance objective; explain the quantitative and qualitative methods that will be used to collect, analyze, and report performance data; and describe the methods that will be used to monitor progress and make mid-course corrections, as appropriate.

8. Project Meetings. For each center under this competition, applicants must budget for—

(a) The Project Director to attend a 2-day meeting in Washington, DC at least once a year for each year of the project period; and

(b) key staff to attend the following:

(i) A 2-day post-award conference with Department officials at in Washington, DC, to be held within 45 days from the grant award date. The purpose of this conference will be to—

• Refine the grantee's technical assistance plan as appropriate;

• Review with the grantee the Department's intentions regarding the role of the grantee's center(s);

• Define how the grantee's center(s) and the Department will work together as partners to accomplish the purposes of the grant;

• Establish lines of communication and feedback between grantees and the Department; and

• Establish content for cooperative agreements; and

(ii) A 1-day annual performance review with Department officials in Washington, DC beginning one year after the post-award conference and each year of the grant thereafter.

Waiver of Proposed Rulemaking: Under the Administrative Procedure Act (5 U.S.C. 553), the Department generally offers interested parties the opportunity to comment on proposed priorities and other non-statutory program requirements. Section 437(d)(1) of the General Education Provisions Act (20 U.S.C. 1232 (d)(1)), however, allows the Secretary to exempt from rulemaking requirements, regulations governing the first competition under a new program authority. This is the first competition for the new Comprehensive Centers program under Title II of the TA Act and therefore qualifies for this exemption. In order to ensure timely grant awards, the Secretary has decided to forego public comment on the absolute priorities, selection criteria and non-statutory requirements under section 437(d)(1). These absolute priorities, selection criteria and non-statutory requirements will apply to the FY 2005 grant competition only.

Program Authority: 20 U.S.C. 9602-9606.

Applicable Regulations: The Education Department General Administration Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreements.

Estimated Number of Awards: The Secretary intends to support 21 awards under this competition. Sixteen awards will support Regional Centers to serve States within defined geographic boundaries. The States and territories to be served by each Regional Center are described in this notice under Absolute Priorities for Regional Centers. Five awards will support Content Centers, each having a specific content expertise and focus, to support the work of the Regional Centers. These five Content Centers are: The Center on Assessment and Accountability, the Center on Instruction, the Center on Teacher Quality, the Center on Innovation and Improvement, and the Center on High Schools. The functions and activities for each of the five Content Centers are described in this notice under Absolute Priorities for Content Centers.

Note: The TA Act provides that the Secretary must ensure that not less than one Comprehensive Center is established in each of the 10 geographic regions served by the Regional Educational Laboratories. Note that these regions differ, in some instances, from the Regional Centers described in this notice. The Secretary will consider the location of the proposed Regional Centers in the selection and negotiation of cooperative agreements to ensure that this requirement of the law is met.

Estimated Available Funds: Eighteen of the 21 Centers proposed for funding under this competition will be supported entirely with funds from the Comprehensive Centers program, authorized under Title II of the TA Act. Three of the 21 centers will be supported with funds appropriated for the Comprehensive Centers program and the Special Education Technical Assistance and Dissemination program, which is authorized under IDEA.

The estimated available funds from the Comprehensive Centers program for FY 2005 is $40 million. Of that amount, an estimated $35 million will be used to fund Regional Centers and $5 million will be used to fund the Content Centers. FY 2005 funds will support awards for the first budget period of the project, which is the first nine months of the project period. Funding for the subsequent 12-month budget periods for years two through five (i.e. FY 2006 through FY 2009) is contingent on appropriation levels. For FY 2006, the President's budget, if funded at the requested level, would provide approximately $56.8 million for the Comprehensive Centers program.

The estimated total funds from the Special Education Technical Assistance and Dissemination program for FY 2005 is $3 million to provide partial support for three of the Content Centers for the first budget period of the project.

Depending on appropriation levels, a total of up to $3 million from the Special Education Technical Assistance and Dissemination program will be available for awards to the co-funded Content Centers in subsequent budget periods. The Department anticipates that each program will provide approximately 50 percent of the annual funding for the three co-funded Content Centers during the first budget period of the project. The co-funded Content Centers will be the Center on Instruction, the Center on Teacher Quality and the Center on High Schools.

Estimated Range of Awards: The estimated range of awards for Regional Centers is $750,000 to $4,604,348 from FY 2005 funds for the first budget period, covering the first 9 months of the project period. Funding for each Regional Center was calculated by formula, based equally on shares of population and poor children, ages 5-17 in the States (including DC, Puerto Rico, and the Outlying Areas) served by each Regional Center. Department estimates for awards to each Regional Center are provided at: http://www.ed.gov/programs/newccp/index.html.

The estimated range of awards for Content Centers is $1,000,000 to $2,000,000 for the first budget period, which includes the first nine months of the project period.

Estimated Average Size of Awards: Regional Centers—$2,187,500 in the first budget period (FY 2005) and approximately $2,895,313 in each subsequent budget period; the three co-funded Content Centers—$2,000,000 in the first budget period (FY 2005) and approximately $2,500,000 in each subsequent budget period; the other two Content Centers—$1,000,000 in the first budget period (FY 2005) and approximately $1,500,000 in each subsequent budget period.

Note: The Department is not bound by any estimates in this notice.

Project Period: Up to 60 months.

Budget Period: Nine months for the first budget period only. Each subsequent budget period will be 12 months.

III. Eligibility Information

1. Eligible Applicants: Research organizations, institutions, agencies, institutions of higher education, or partnerships among such entities, or individuals, with the demonstrated ability or capacity to carry out the activities described in this notice. An application from a consortium of eligible entities must include a consortium agreement. Letters of support do not meet the requirement for a consortium agreement.

2. Cost Sharing or Matching: This competition does not involve cost sharing or matching.

IV. Application and Submission Information

1. Address to Request Application Package: You may obtain an application package via the Internet or from the Education Publications Center (ED Pubs). To obtain an application via the Internet, use the following address: http://www.ed.gov/programs/newccp/index.html.

To obtain a copy from ED Pubs, write or call the following: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html; or you may contact ED Pubs at its e-mail address: edpubs@inet.ed.gov.

If you request an application package from ED Pubs, be sure to identify this competition as follows: CFDA number 84.283B.

Individuals with disabilities may obtain a copy of the application package in an alternative format (e.g., Braille, large print, audiotape, or computer diskette) by contacting the program contact person listed elsewhere in section VII of this notice.

2. Content and Form of Application Submission: Requirements concerning the content of the application, together with the forms you must submit, are in the application package for this competition. If an applicant is applying for more than one center, the applicant must submit a separate application for each center. Notice of Intent to Apply: In order to expedite the process for reviewing grant applications, we strongly encourage each potential applicant to send a notification of its intent to apply for funding to the following address: OESE.cc@ed.gov.

In this notice, please indicate the comprehensive center(s) for which you intend to apply. The notification of intent to apply for funding is optional and should not include information regarding your proposed application(s).

Page Limit: Applicants are strongly encouraged to limit their application to 150 pages.

3. Submission Dates and Times: Applications Available: June 3, 2005.

Deadline for Notice of Intent to Apply: June 23, 2005. Dates of Pre-Application Meetings: The Department will conduct briefings on this competition via conference call to clarify the purposes of the program and the selection criteria and process at 11 AM on each of the following dates: Applicants for Regional Centers June 13 and 17; Applicants for Content Centers June 22 and 23. Please e-mail Enid Simmons at enid.simmons@ed.gov to register for a call date and time and obtain the conference call number and code.

Deadline for Transmittal of Applications: July 18, 2005.

Applications for grants under this competition must be submitted electronically using the Electronic Grant Application System (e-Application) available through the Department's e-Grants system. For information (including dates and times) about how to submit your application electronically or by mail or hand delivery if you qualify for an exception to the electronic submission requirement, please refer to section IV. 6.

Note: We do not consider an application that does not comply with the deadline requirements.

Deadline for Intergovernmental Review: August 17, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications. Applications for grants under the new Comprehensive Center Competition CFDA Number 84.283B must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and,

(2) (a) The e-Application system is unavailable for 60 minutes or more between the hours of 8:30 a.m. and 3:30 p.m., Washington, DC time, on the application deadline date; or (b) The e-Application system is unavailable for any period of time between 3:30 p.m. and 4:30 p.m., Washington, DC time, on the application deadline date.

We must acknowledge and confirm these periods of unavailability before granting you an extension. To request this extension or to confirm our acknowledgment of any system unavailability, you may contact either: (1) The person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Enid Simmons, U.S. Department of Education, 400 Maryland Avenue, SW., room 3E307, Washington, DC 20202. FAX: (202) 250-5870.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address: By mail through the U.S. Postal Service: U.S. Department of Education, Application Control Center, Attention: CFDA Number 84.283B, 400 Maryland Avenue, SW., Washington, DC 20202-4260; or By mail through a commercial carrier:U.S. Department of Education, Application Control Center—Stop 4260, Attention: (CFDA Number 84.283B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to electronic submission requirement, you (or a courier service) may deliver your paper application to the Department by hand. You must deliver the original and two copies of your application, by hand, on or before the application deadline date, to the Department at the following address: U.S. Department of Education, Application Control Center, Attention: (CFDA Number 84.283B), 550 12th Street, SW., Room 7041, Potomac Center Plaza, Washington, DC 20202-4260.

The Application Control Center accepts hand deliveries daily between 8:00 a.m. and 4:30 p.m., Washington, DC time, except Saturdays, Sundays, and Federal holidays. Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: We will use the following selection criteria to evaluate applications under this competition. The maximum score for each criterion is indicated in parentheses with the criterion. The maximum number of points an application may earn based on the selection criteria is 100 points.

a. Need for the Center (10 points). In determining the need for the proposed center, the Secretary considers the following:

(i) The extent to which the proposed plan of technical assistance presents strategies that address the priority technical assistance needs of States as evidenced by in-depth knowledge and understanding of—

(A) In the case of Content Centers, data and evidence on State and district technical assistance needs and demands related to standards and accountability, teacher quality, innovation and improvement, instruction, or high school reform;

(B) For Regional Centers, the specific educational goals and priorities of the States to be served by the center, including relevant major reform efforts underway;

(C) For Regional Centers, the status of States in meeting the requirements of NCLB, including the number and proportion of districts and schools in need of improvement within each State, the number and proportion of students not meeting State standards in the reading and mathematics; and

(D) For Regional Centers, applicable State and, regional demographics and other contextual factors and their relevance for the purposes, goals, and challenges for implementing the provisions of NCLB.

(ii) For both Regional and Content Centers, the likelihood that activities of the proposed center will result in products and services that are of high quality, high relevance, and high usefulness to clients.

b. Significance (10 points). In determining the significance of the proposed center, the Secretary considers the following:

(i) The extent to which the proposed technical assistance plan presents an approach that will likely result in systems change or improvement at the State or district levels.

(ii) The potential contribution of the center proposal to increase knowledge or understanding of effective strategies.

(iii) The importance of outcomes likely to be attained by the proposed center, especially improvements in teaching and student achievement.

c. Quality of the Project Design (25 points). In determining the quality of the design of the proposed center, the Secretary will consider the following factors:

(i) The extent to which the application proposes an exceptional approach for carrying out the purposes and activities for the center for which the applicant is applying.

(ii) The extent to which the application proposes high-leverage approaches that focus assistance at the State level and on helping States build capacity to support district and school improvement and programs.

(iii) The extent to which the proposed technical assistance plan reflects in-depth knowledge and understanding of NCLB, as well as supporting regulations and guidance pertinent to carrying out the purposes and activities of the center for which the applicant is applying.

(iv) The extent to which the proposed technical assistance plan reflects in-depth knowledge and understanding of available scientifically valid, research-based and/or evidence-based practices to improve student achievement and close achievement gaps and demonstrates knowledge of and access to reliable sources for obtaining such knowledge on an ongoing basis.

(v) The extent to which the proposed technical assistance plan reflects in-depth knowledge and understanding of current scientifically valid, research-based and/or evidence-based technical assistance methods and practices.

d. Quality of Project Personnel and Adequacy of Grantee Resources (25 points). In determining the quality of project personnel, the Secretary considers the extent to which the applicant encourages applications for employment from persons who are members of groups that have traditionally been underrepresented based on race, color, national origin, gender, age, or disability.

In addition, the Secretary will consider the following factors under this criterion:

(i) The extent to which the application presents evidence of professional preparation and successful prior experience of the center director and other key staff, including sub-grantees and key consultants and partners that would indicate that each has the knowledge, skills and ability to successfully carry out the responsibilities they are assigned. For example, the extent to which the application presents evidence of:

(A) In the case of Content Centers, (1) in-depth knowledge of content and research in the proposed center's focus area, particularly those practices and approaches that are linked to improvements in achievement for students at risk of failure, including students from low-income families, students who have limited English proficiency, students with disabilities, and migrant students; (2) the ability to translate and communicate that knowledge; and (3) the demonstrated ability to collaborate with other providers and research institutions, broker relationships, and connect stakeholders at a regional and/or national level, as appropriate, to identify and share best practices.

(B) In the case of Regional Centers, expertise and demonstrated successful experience assisting States with comprehensive planning, needs assessments and implementing school improvement programs and processes, with a particular focus on improving outcomes for students at risk of failure, including students from low-income families, disabled students, students with limited proficiency in English, and migrant students.

(ii) The extent to which proposed center staff have expertise using technology to deliver technical assistance and implementing school improvement reforms within urban and rural contexts.

(iii) The extent to which the applicant has demonstrated experience providing technical assistance and professional development in reading, mathematics, science and technology, especially in schools and districts identified as in need of improvement.

(iv) The extent to which the applicant has prior relevant experience operating a project of the scope required for the purposes of the center being proposed.

(v) The extent to which the application proposes an advisory board membership in accordance with the requirements of the TA Act and includes reasonable assurance of their commitment to serve on the board. The extent to which the resources and plans for the board's operation are reasonable and cost-efficient.

(vi) The adequacy of resources for the proposed project, including facilities and equipment, to successfully carry out the purposes and activities of the proposed project.

e. Quality of the Management Plan (20 points). In determining the quality of the management plan for the proposed project, the Secretary will consider the following factors:

(i) The extent to which resources are allocated within the region in a manner that reflects the need for assistance.

(ii) The adequacy of the management plan to achieve the objectives of the project on time and within budget, including clearly defined responsibilities, timelines, and milestones for accomplishing project tasks.

(iii) The extent to which the time commitments of the project director and other key project personnel are appropriate and adequate to meet the objectives of the proposed project.

(iv) The adequacy of procedures for ensuring feedback on performance measures and continuous improvement in the operation of the proposed project.

(v) The extent to which the application proposes exceptional, innovative and workable approaches and plans to—

(A) Communicate on an ongoing basis with other comprehensive centers, as appropriate, the Regional Educational Laboratories, the client State educational agencies and other technical assistance providers serving the region; and

(B) Coordinate the plans and activities funded by this grant with the plans and activities of the State and other agencies, in order to leverage resources, avoid duplications and otherwise maximize the effectiveness of services; and make effective use of available technologies to widely disseminate information about proven practices.

f. Quality of the Project Evaluation (10 points). In determining the quality of the evaluation plan, the Secretary will consider the following factors:

(i) The extent to which the performance goals and objectives for the project are clearly specified and measurable in terms of the project activities to be accomplished and their stated outcomes for clients.

(ii) The extent to which the methods for monitoring performance and evaluating the effectiveness of project strategies in terms of outcomes for clients are thorough, feasible, and appropriate to the goals, objectives, and outcomes of the proposed project.

(iii) The extent to which the methods of evaluation will provide continuous performance feedback and permit the continuous assessment of progress toward achieving intended outcomes.

(iv) The extent to which the applicant demonstrates a strong capacity to provide reliable data on performance measures.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project, you must submit a final performance report, including financial information, as directed by the Secretary. If you receive a multi-year award, you must submit an annual performance report that provides the most current performance and financial expenditure information as specified by the Secretary in 34 CFR 75.118.

4. Performance Measures: To evaluate the overall success of the Comprehensive Center Program, beginning in FY 2006, the Department will use three performance measures to assess the quality, relevance, and usefulness of center activities funded under this competition. These new measures, adapted from a set of common measures developed to help assess performance across the Department's technical assistance programs, are: (1) The percentage of technical assistance services that are deemed to be of high quality by an independent review panel of expert stakeholders; (2) the percentage of technical assistance services that are deemed to be of high relevance to educational policy or practice by an independent review panel of qualified practitioners; and (3) the percentage of technical assistance services that are deemed to be of high usefulness to educational policy or practice by target audiences.

All grantees will be expected to submit, as part of their performance report, quantitative data documenting their progress with regard to these performance measures. The Department will provide information to grantees about the independent panels conducting the review, the review process, and the definitions and criteria that will be used to evaluate quality, relevance and usefulness.

VII. Agency Contact

FOR FURTHER INFORMATION CONTACT: Enid Simmons, U.S. Department of Education, 400 Maryland Avenue, SW., room 3E307, Washington, DC 20202-6335. Telephone: (202) 401-0039 or by e-mail: OESE.cc@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: May 31, 2005.
Raymond Simon,
Assistant Secretary for Elementary and Secondary Education.

[FR Doc. 05-11097 Filed 6-2-05; 8:45 am]

BILLING CODE 4000-01-P